Proclamation 9841 of January 31, 2019

National African American History Month, 2019

By the President of the United States of America

A Proclamation

In the year 1619, a Dutch trading ship sailed into the Chesapeake Bay and dropped anchor at Point Comfort, Virginia. The vessel's arrival marked the beginning of the unscrupulous slave trade in the American colonies. It was from this immoral origin—and through inhuman conditions, discrimination, and prolonged hardship—that emerged the vibrant culture, singular accomplishments, and groundbreaking triumphs that we honor and celebrate during National African American History Month.

National African American History Month is an occasion to rediscover the enduring stories of African Americans and the gifts of freedom, purpose, and opportunity they have bestowed on future generations. It is also a time to commemorate the countless contributions of African Americans, many of whom lived through and surmounted the scourge of segregation, racial prejudice, and discrimination to enrich every fiber of American life. Their examples of heroism, patriotism, and enterprise have given people of all backgrounds confidence, courage, and faith to pursue their own dreams.

This year's theme, “Black Migrations,” highlights the challenges and successes of African Americans as they moved from farms in the agricultural South to centers of industry in the North, Midwest, and West—especially the migrations that occurred in the twentieth century. Through these migrations, millions of African Americans reshaped the demographic landscape of America, starting new lives in cities such as Philadelphia, Detroit, Chicago, and New York City.

In that time of great change, inspirational leaders, such as Annie Turnbo Malone, charted a new path for many African American men and women. Annie Malone, the daughter of former slaves, became one of the most successful entrepreneurs in America at the turn of the century, and provided opportunities for African Americans to pursue meaningful careers. Through mentorship and education, she empowered others to start their own businesses. She is one of many inspirational African Americans in an era that also produced luminaries such as Mary McLeod Bethune and Booker T. Washington, both of whom encouraged and emboldened disenfranchised black students to push through obstacles and realize their God-given potential.

American history brims with the stories of African Americans who forever changed their communities and our country. We will, for example, never forget the legendary “Queen of Soul,” Aretha Franklin, whose unforgettable voice transcended genre and left music transformed, and whose broad appeal in an era of deep division helped to bridge racial divides. Another trailblazer, baseball legend Jackie Robinson, known ubiquitously in Major League Baseball as “42,” shattered institutional racism in American athletics when he became the first African-American player to appear in a big league game. Over his career, his exceptional talent and noble character in the face of racial hatred undermined the twin false ideologies of segregation and racial inequality. The spirit and determination of these and other African American heroes make our Nation proud and define what it means to be American.

National African American History Month is a call to each and every citizen of our great land to reflect on the cultural, scientific, political, and economic contributions of African Americans, which are woven throughout American society. We remember, learn from, and build on the past, so that, together, we can build a better and more prosperous future for all Americans.

NOW, THEREFORE, I, DONALD J. TRUMP, President of the United States of America, by virtue of the authority vested in me by the Constitution and the laws of the United States, do hereby proclaim February 2019 as National African American History Month. I call upon public officials, educators, librarians, and all the people of the United States to observe this month with appropriate programs, ceremonies, and activities.

IN WITNESS WHEREOF, I have hereunto set my hand this thirty-first day of January, in the year of our Lord two thousand nineteen, and of the Independence of the United States of America the two hundred and forty-third.

[FR Doc. 2019-01484

2-5-19; 8:45 am]

Billing code 3295-F9-P